DEPARTMENT OF COMMERCE

International Trade Administration

[C-351-855, C-489-840, C-525-002, C-533-896]

Common Alloy Aluminum Sheet From Bahrain, Brazil, India, and the Republic of Turkey: Initiation of Countervailing Duty Investigations

AGENCY: Enforcement and Compliance, International Trade Administration, Department of Commerce.

DATES: Applicable March 30, 2020.

FOR FURTHER INFORMATION CONTACT: Thomas Schauer at (202) 482-0410 (Bahrain); Jonathan Hall-Eastman at (202) 482-1468 (Brazil); Benito Ballesteros at (202) 482-7425 (India); Mark Hoadley at (202) 482-3148 (Republic of Turkey (Turkey)), AD/CVD Operations, Enforcement and Compliance, International Trade Administration, U.S. Department of Commerce, 1401 Constitution Avenue NW, Washington, DC 20230.

SUPPLEMENTARY INFORMATION:

The Petitions

On March 9, 2020, the U.S. Department of Commerce (Commerce) received countervailing duty (CVD) petitions concerning imports of common alloy aluminum sheet (aluminum sheet) from Bahrain, Brazil, India, and Turkey, filed in proper form on behalf of the Aluminum Association Common Alloy Aluminum Sheet Working Group (petitioners).¹ The Petitions were accompanied by antidumping duty (AD) petitions concerning imports of aluminum sheet from Bahrain, Brazil, Croatia, Egypt, Germany, Greece, India, Indonesia, Italy, Republic of Korea, Oman, Romania, Serbia, Slovenia, South Africa, Spain, Taiwan, and Turkey.

¹ See Petitioners' Letter, “Common Alloy Aluminum Sheet from Bahrain, Brazil, Croatia, Egypt, Germany, Greece, India, Indonesia, Italy, Korea, Oman, Romania, Serbia, Slovenia, South Africa, Spain, Taiwan, and Turkey,” dated March 9, 2020 (Petitions).

On March 12, 2020, Commerce requested supplemental information pertaining to certain aspects of the Petitions in separate supplemental questionnaires.² The petitioners filed responses to the supplemental questionnaires between March 16 and 19, 2020.³ On March 20, 2020, Commerce requested additional information in a phone call with the petitioners,⁴ and the petitioners responded to Commerce's request on March 23, 2020.⁵

² See Commerce's Letters, “Petition for the Imposition of Countervailing Duties on Imports of Common Alloy Aluminum Sheet from Bahrain: Supplemental Questions”; “Petition for the Imposition of Countervailing Duties on Imports of Common Alloy Aluminum Sheet from Bahrain: Supplemental Questions”; “Petition for the Imposition of Countervailing Duties on Imports of Common Alloy Aluminum Sheet from India: Supplemental Questions”; and “Petition for the Imposition of Countervailing Duties on Imports of Common Alloy Aluminum Sheet from Turkey: Supplemental Questions”, dated March 12, 2020. See also Commerce Letter, “Petitions for the Imposition of Antidumping and Countervailing Duties on Imports of Common Alloy Aluminum Sheet from Bahrain, Brazil, Croatia, Egypt, Germany, Greece, India, Indonesia, Italy, Korea, Oman, Romania, Serbia, Slovenia, South Africa, Spain, Taiwan, and Turkey: Supplemental Questions,” dated March 13, 2020.

³ See Petitioner's Letters, “Common Alloy Aluminum Sheet from Bahrain, Brazil, Croatia, Egypt, Germany, Greece, India, Indonesia, Italy, Korea, Oman, Romania, Serbia, Slovenia, South Africa, Spain, Taiwan, and Turkey—Petitioners' Amendments to Volume I Relating to General Issues” (General Issues Supplement); “Petitioners' Responses to Supplemental Questions Concerning Volume XX Relating to Bahrain Countervailing Duty”; “Common Alloy Aluminum Sheet from Brazil—Petitioners' Supplement to Volume XXI Relating to Brazil Countervailing Duties”; “Common Alloy Aluminum Sheet from India—Petitioners' Supplement to Volume XXII Relating to India Countervailing Duties”; and “Petitioners' Responses to Supplemental Questions Concerning Volume XXIII Relating to Turkey Countervailing Duty”, dated March 17, 2020.

⁴ See Memorandum, “Petitions for the Imposition of Antidumping and Countervailing Duties on Imports of Common Alloy Aluminum Sheet from Bahrain, Brazil, Croatia, Egypt, Germany, Greece, India, Indonesia, Italy, Korea, Oman, Romania, Serbia, Slovenia, South Africa, Spain, Taiwan, and Turkey: Phone Call with Counsel to the Petitioners,” dated March 20, 2020.

⁵ See Petitioners' Letter, “Common Alloy Aluminum Sheet from Bahrain, Brazil, Croatia, Egypt, Germany, Greece, India, Indonesia, Italy, Korea, Oman, Romania, Serbia, Slovenia, South Africa, Spain, Taiwan, and Turkey—Petitioners' Second Amendment to Volume I Relating to General Issues,” dated March 23, 2020 (Second General Issues Supplement).

In accordance with section 702(b)(1) of the Tariff Act of 1930, as amended (the Act), the petitioners allege that the Governments of Bahrain, Brazil, India, and Turkey (GBA, GBR, GOI, and GOT, respectively) ⁶ are providing countervailable subsidies, within the meaning of sections 701 and 771(5) of the Act, to producers of aluminum sheet in Bahrain, Brazil, India, and Turkey, and that imports of such products are materially injuring, or threatening material injury to, the domestic aluminum sheet industry in the United States. Consistent with section 702(b)(1) of the Act and 19 CFR 351.202(b), for those alleged programs on which we are initiating CVD investigations, the Petitions are accompanied by information reasonably available to the petitioners supporting the allegations.

⁶ Petitioners' filings refer to both the Government of Bahrain and Government of Brazil and “GOB.” To avoid confusion, we will use “GBA” and “GBR” to refer to the governments of Bahrain and Brazil, respectively.

Commerce finds that the petitioners filed the Petitions on behalf of the domestic industry, because the petitioners are an interested party, as defined in sections 771(9)(C) and (F) of the Act. Commerce also finds that the petitioners demonstrated sufficient industry support necessary for the initiation of the requested CVD investigations.⁷

⁷ See the “Determination of Industry Support for the Petition” section, infra.

Periods of Investigation

Because the Petitions were filed on March 9, 2020, the periods of investigation are January 1, 2019 through December 31, 2019.

Scope of the Investigations

The product covered by these investigations is aluminum sheet from Bahrain, Brazil, India, and Turkey. For a full description of the scope of these investigations, see the Appendix to this notice.

Scope Comments

As discussed in the Preamble to Commerce's regulations, we are setting aside a period for interested parties to raise issues regarding product coverage (i.e., scope).⁸ Commerce will consider all comments received from interested parties and, if necessary, will consult with interested parties prior to the issuance of the preliminary determinations. If scope comments include factual information,⁹ all such factual information should be limited to public information. To facilitate preparation of its questionnaires, Commerce requests that all interested parties submit such comments by 5:00 p.m. Eastern Time (ET) on April 20, 2020, which is 20 calendar days from the signature date of this notice.¹⁰ Any rebuttal comments, which may include factual information, must be filed by 5:00 p.m. ET on April 30, 2020, which is 10 calendar days from the initial comment deadline.¹¹

⁸ See Antidumping Duties; Countervailing Duties, Final Rule, 62 FR 27296, 27323 (May 19, 1997) (Preamble).

⁹ See 19 CFR 351.102(b) (21) (defining “factual information”).

¹⁰ Commerce practice dictates that where a deadline falls on a weekend or Federal holiday, the appropriate deadline is the next business day (in this instance, April 20, 2020). See Notice of Clarification: Application of “Next Business Day” Rule for Administrative Determination Deadlines Pursuant to the Tariff Act of 1930, As Amended, 70 FR 24533 (May 10, 2005).

¹¹ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, Commerce notified representatives of the GBA, GBR, GOI, and GOT of the receipt of the Petitions and provided them the opportunity for consultations with respect to the Petitions.¹³ The consultations with the GOI were scheduled for March 23, 2020. However, on March 23, 2020, the GOI requested that Commerce postpone the consultations to a later date.¹⁴ Consultations were held with the GOT on March 20, 2020.¹⁵ Consultations were held with the GBR on March 27, 2020.¹⁶ Consultations were not held with the GBA because the GBA did not request them.

¹³ See Commerce's Letters, “Countervailing Duty Petition on Common Alloy Aluminum Sheet from Brazil: Invitation for Consultations to Discuss the Countervailing Duty Petition,” dated March 10, 2020; “Countervailing Duty Petition on Common Alloy Aluminum Sheet from Bahrain;” and “Petition for Countervailing Duties on Common Alloy Aluminum Sheet from the Republic of Turkey,” each dated March 11, 2020; and “Countervailing Duty Petition on Common Alloy Aluminum Sheet from India: Invitation for Consultations to Discuss the Countervailing Duty Petition,” dated March 13, 2020.

¹⁴ See Memorandum, “Countervailing Duty Petition on Common Alloy Aluminum Sheet from India: Government Consultations,” dated March 23, 2020.

¹⁵ See Memorandum, “Consultations with the Government of the Republic of Turkey (Turkey) on the Countervailing Duty Petition Regarding Common Alloy Aluminum Sheet from Turkey,” dated March 23, 2020.

¹⁶ See Memorandum, “Consultations with the Government of Brazil on the Countervailing Duty Petition Regarding Common Alloy Aluminum Sheet from Brazil,” dated March 27, 2020.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁷ they do so for different purposes and pursuant to a separate and distinct authority. In addition, Commerce's determination is subject to limitations of time and information. Although this may result in different definitions of the like product, such differences do not render the decision of either agency contrary to law.¹⁸

¹⁷ See section 771(10) of the Act.

¹⁸ See USEC, Inc. v. United States, 132 F. Supp. 2d 1, 8 (Ct. Int'l Trade 2001) (citing Algoma Steel Corp., Ltd. v. United States, 688 F. Supp. 639, 644 (Ct. Int'l Trade 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁹ Based on our analysis of the information submitted on the record, we have determined that aluminum sheet, as defined in the scope, constitutes a single domestic like product, and we have analyzed industry support in terms of that domestic like product.²⁰

¹⁹ See Volume I of the Petitions at 13-15.

²⁰ For a discussion of the domestic like product analysis as applied to these cases and information regarding industry support, see Countervailing Duty Investigation Initiation Checklist: Common Alloy Aluminum Sheet from Bahrain (Bahrain CVD Initiation Checklist) at Attachment II, Analysis of Industry Support for the Antidumping and Countervailing Duty Petitions Covering Common Alloy Aluminum Sheet from Bahrain, Brazil, Croatia, Egypt, Germany, Greece, India, Indonesia, Italy, Korea, Oman, Romania, Serbia, Slovenia, South Africa, Spain, Taiwan, and Turkey (Attachment II); see also Countervailing Duty Investigation Initiation Checklist: Common Alloy Aluminum Sheet from Brazil (Brazil CVD Initiation Checklist) at Attachment II; Countervailing Duty Investigation Initiation Checklist: Common Alloy Aluminum Sheet from India (India CVD Initiation Checklist) at Attachment II; and Countervailing Duty Investigation Initiation Checklist: Common Alloy Aluminum Sheet from Turkey (Turkey CVD Initiation Checklist) at Attachment II. These checklists are dated concurrently with this notice and on file electronically via ACCESS. Access to documents filed via ACCESS is also available in the Central Records Unit, Room B8024 of the main Commerce building.

In determining whether the petitioners have standing under section 702(c)(4)(A) of the Act, we considered the industry support data contained in the Petitions with reference to the domestic like product as defined in the “Scope of the Investigations,” in the appendix to this notice. To establish industry support, the petitioners provided their 2019 production of the domestic like product.²¹ In addition, the petitioners provided 2019 production data for, and a letter of support from, Jupiter Aluminum Corporation.²² The petitioners estimated the production of the domestic like product for the entire domestic industry based on shipment data collected by the Aluminum Association, and the Aluminum Association's knowledge of the industry.²³ We relied on data provided by the petitioners for purposes of measuring industry support.²⁴

²¹ See Volume I of the Petitions at 4 and Exhibit GEN-2; see also General Issues Supplement at 3.

²² See Volume I of the Petitions at 4 and Exhibit GEN-2; see also Second General Issues Supplement.

²³ See Volume I of the Petitions at 4 and Exhibits GEN-2 and GEN-3; see also General Issues Supplement at 3.

²⁴ See Volume I of the Petitions at 4 and Exhibit GEN-2; see also General Issues Supplement at 3. For further discussion, see Attachment II of the Bahrain CVD Initiation Checklist, Brazil CVD Initiation Checklist, India CVD Initiation Checklist, and Turkey CVD Initiation Checklist.

Our review of the data provided in the Petitions, the General Issues Supplement, the Second General Issues Supplement, and other information readily available to Commerce indicates that the petitioners have established industry support for the Petitions.²⁵ First, the Petitions established support from domestic producers (or workers) accounting for more than 50 percent of the total production of the domestic like product and, as such, Commerce is not required to take further action in order to evaluate industry support (e.g., polling).²⁶ Second, the domestic producers (or workers) have met the statutory criteria for industry support under section 702(c)(4)(A)(i) of the Act because the domestic producers (or workers) who support the Petitions account for at least 25 percent of the total production of the domestic like product.²⁷ Finally, the domestic producers (or workers) have met the statutory criteria for industry support under section 702(c)(4)(A)(ii) of the Act because the domestic producers (or workers) who support the Petitions account for more than 50 percent of the production of the domestic like product produced by that portion of the industry expressing support for, or opposition to, the Petitions.²⁸ Accordingly, Commerce determines that the Petitions were filed on behalf of the domestic industry within the meaning of section 702(b)(1) of the Act.²⁹

²⁵ Id.

²⁶ Id.; see also section 702(c)(4)(D) of the Act.

²⁷ See Volume I of the Petitions at 4 and Exhibit GEN-2; see also General Issues Supplement at 3. For further discussion, see Attachment II of the Bahrain CVD Initiation Checklist, Brazil CVD Initiation Checklist, India CVD Initiation Checklist, and Turkey CVD Initiation Checklist.

²⁸ Id.

²⁹ Id.

Injury Test

Because Bahrain, Brazil, India, and Turkey are “Subsidies Agreement Countries” within the meaning of section 701(b) of the Act, section 701(a)(2) of the Act applies to these investigations. Accordingly, the ITC must determine whether imports of the subject merchandise from Bahrain, Brazil, India, and/or Turkey materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.³⁰

³⁰ See Volume I of the Petitions at 15-17, and Exhibit GEN-9.

The petitioners contend that the industry's injured condition is illustrated by a significant and increasing volume of subject imports; reduced market share; underselling and price depression or suppression; lost sales and revenues; declining capacity utilization; a declining number of production and related workers; and a decline in financial performance and profitability.³¹ We have assessed the allegations and supporting evidence regarding material injury, threat of material injury, causation, as well as negligibility, and we have determined that these allegations are properly supported by adequate evidence, and meet the statutory requirements for initiation.³²

³¹ See Volume I of the Petitions at 22-37, and Exhibits GEN-7 and GEN-10 through GEN-15.

³² See Bahrain CVD Initiation Checklist at Attachment III, Analysis of Allegations and Evidence of Material Injury and Causation for the Antidumping and Countervailing Duty Petition Petitions Covering Common Alloy Aluminum Sheet from Bahrain, Brazil, Croatia, Egypt, Germany, Greece, India, Indonesia, Italy, Korea, Oman, Romania, Serbia, Slovenia, South Africa, Spain, Taiwan, and Turkey (Attachment III); see also Attachment III of the Brazil CVD Initiation Checklist, India CVD Initiation Checklist, and Turkey CVD Initiation Checklist.

Initiation of CVD Investigations

Based upon the examination of the Petitions and supplemental responses, we find that they meet the requirements of section 702 of the Act. Therefore, we are initiating CVD investigations to determine whether imports of aluminum sheet from Bahrain, Brazil, India, and Turkey benefit from countervailable subsidies conferred by the GBA, GBR, GOI, and GOT, respectively. In accordance with section 703(b)(1) of the Act and 19 CFR 351.205(b)(1), unless postponed, we will make our preliminary determinations no later than 65 days after the date of this initiation.

Bahrain

Based on our review of the petition, we find that there is sufficient information to initiate a CVD investigation on 9 of the 12 alleged programs. For a full discussion of the basis for our decision whether to initiate on each program, see Bahrain CVD Initiation Checklist. A public version of the initiation checklist for this investigation is available on ACCESS.

Brazil

Based on our review of the petition, we find that there is sufficient information to initiate a CVD investigation on 18 of the 19 alleged programs. For a full discussion of the basis for our decision whether to initiate on each program, see Brazil CVD Initiation Checklist. A public version of the initiation checklist for this investigation is available on ACCESS.

India

Based on our review of the petition, we find that there is sufficient information to initiate a CVD investigation, in whole or part, on 41of the 43 alleged programs. For a full discussion of the basis for our decision to initiate on each program, see India CVD Initiation Checklist. A public version of the initiation checklist for this investigation is available on ACCESS.

Turkey

Based on our review of the petition, we find that there is sufficient information to initiate a CVD investigation, in whole or part, on all of the 21 alleged programs. For a full discussion of the basis for our decision to initiate on each program, see Turkey CVD Initiation Checklist. A public version of the initiation checklist for this investigation is available on ACCESS.

Respondent Selection

The petitioners named one company in Bahrain, six companies in Brazil, 14 companies in India, and 21 companies in Turkey as producers/exporters of aluminum sheet.³³ Commerce intends to follow its standard practice in CVD investigations and calculate company-specific subsidy rates in these investigations. In the event Commerce determines that the number of companies is large and it cannot individually examine each company based upon Commerce's resources, where appropriate, Commerce intends to select mandatory respondents based on U.S. Customs and Border Protection (CBP) data for U.S. imports of aluminum sheet from Bahrain, Brazil, India, and Turkey during the POI under the appropriate Harmonized Tariff Schedule of the United States numbers listed in the “Scope of the Investigations,” in the Appendix.

³³ See Volume I of the Petitions at Exhibit GEN-6.

On March 24, 2020 and March 26, 2020, Commerce released CBP data on imports of aluminum sheet from those countries with a large number of companies, specifically, Brazil, India, and Turkey under APO to all parties with access to information protected by APO and indicated that interested parties wishing to comment on the CBP data must do so within three business days of the publication date of the notice of initiation of these investigations.³⁴ Commerce will not accept rebuttal comments regarding the CBP data or respondent selection.

³⁴ See Memoranda, “Petition for the Imposition of Countervailing Duties (CVD) on Imports of Common Alloy Aluminum Sheet from Brazil: Release of U.S. Customs and Border Protection Data;” and “Countervailing Duty Petition on Common Alloy Aluminum Sheet from India: Release of U.S. Customs and Border Protection Data,” dated March 24, 2020; see also Memorandum, “Countervailing Duty Petition on Common Alloy Aluminum Sheet from the Republic of Turkey: Release of U.S. Customs and Border Protection Data,” dated March 26, 2020.

The petitioners identified one company in Bahrain as the sole producer/exporter of aluminum sheet (i.e., Gulf Aluminum Rolling Mill Company (GARMCO)). We currently know of no additional producers/exporters of aluminum sheet from Bahrain. Accordingly, for Bahrain, Commerce intends to individually examine GARMCO. Parties wishing to comment on respondent selection for Bahrain, must do so within three business days of the publication date of the notice of initiation of these investigations.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petitions

In accordance with section 702(b)(4)(A)(i) of the Act and 19 CFR 351.202(f), copies of the public version of the Petitions have been provided to the GBA, GBR, GOI, and GOT via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of aluminum sheet from Bahrain, Brazil, India, and Turkey are materially injuring, or threatening material injury to, a U.S. industry.³⁵ A negative ITC determination in any country will result in the investigations being terminated with respect to that country.³⁶ Otherwise, these investigations will proceed according to statutory and regulatory time limits.

³⁵ See section 703(a)(2) of the Act.

³⁶ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). 19 CFR 351.301(b) requires any party, when submitting factual information, to specify under which subsection of 19 CFR 351.102(b)(21) the information is being submitted ³⁷ and, if the information is submitted to rebut, clarify, or correct factual information already on the record, to provide an explanation identifying the information already on the record that the factual information seeks to rebut, clarify, or correct.³⁸ Time limits for the submission of factual information are addressed in 19 CFR 351.301, which provides specific time limits based on the type of factual information being submitted. Interested parties should review the regulations prior to submitting factual information in these investigations.

³⁷ See 19 CFR 351.301(b).

³⁸ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.³⁹ Parties must use the certification formats provided in 19 CFR 351.303(g).⁴⁰ Commerce intends to reject factual submissions if the submitting party does not comply with the applicable certification requirements.

³⁹ See section 782(b) of the Act.

⁴⁰ See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)). Note that Commerce has temporarily modified certain of its requirements for serving documents containing business proprietary information, until May 19, 2020, unless extended.⁴¹

⁴¹ See Temporary Rule Modifying AD/CVD Service Requirements Due to COVID-19, 85 FR 17006 (March 26, 2020).

This notice is issued and published pursuant to sections 702(c)(2) and 777(i) of the Act and 19 CFR 351.203(c).

Dated: March 30, 2020.
Jeffrey I. Kessler,
Assistant Secretary for Enforcement and Compliance.

Appendix

Scope of the Investigations

The merchandise covered by these investigations is aluminum common alloy sheet (common alloy sheet), which is a flat-rolled aluminum product having a thickness of 6.3 mm or less, but greater than 0.2 mm, in coils or cut-to-length, regardless of width. Common alloy sheet within the scope of the investigations includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of these investigations if performed in the country of manufacture of the common alloy sheet.

Excluded from the scope of these investigations is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its Start Printed Page 2159 movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.1l 6000, 7606.12.3096, 7606.12.6000, 7606.91.3095, 7606.9.6095, 7606.92.3035, and 7606.92.6095. Further, merchandise that falls within the scope of these investigations may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of these investigations is dispositive.

[FR Doc. 2020-07180 Filed 4-6-20; 8:45 am]

BILLING CODE 3510-DS-P